DEPARTMENT OF COMMERCE

National Oceanic and Atmospheric Administration

[I.D. 062600C]

Marine Mammals

AGENCY: National Marine Fisheries Service (NMFS), National Oceanic and Atmospheric Administration (NOAA), Commerce.

ACTION: Issuance of permit amendment.

SUMMARY: Notice is hereby given that Rachel Cartwright, P.O. Box 1317, Lahaina, Hawaii 96767, has been issued an amendment to scientific research Permit No. 895-1450.

ADDRESSES: The amendment and related documents are available for review upon written request or by appointment in the following offices:

Permits Division, Office of Protected Resources, NMFS,

1315 East-West Highway, Room 13130, Silver Spring, MD 20910 (301/713-2289);

Regional Administrator, Southwest Region, NMFS, 501 West Ocean Boulevard, Suite 4200, Long Beach, CA 90802-4213 (310/980-4001); and

Protected Species Program Manager, Pacific Islands Area Office, Southwest Region, NMFS, 1601 Kapiolani Boulevard, Suite 1110, Honolulu, HI (808/973-2937);

Alaska Regional Office, Federal Building Room 461, 709 West 9th Street, Juneau, Alaska (907/586-7235).

SUPPLEMENTARY INFORMATION: On March 30, 2000, notice was published in the Federal Register (65 FR 16894) that an amendment of Permit No. 895-1450, issued December 23, 1998 (64 FR 862), had been requested by the above-named person. The requested amendment has been issued under the authority of the Marine Mammal Protection Act of 1972, as amended (16 U.S.C. 1361 et seq.), the Regulations Governing the Taking and Importing of Marine Mammals (50 CFR Part 216), the Endangered Species Act (ESA) of 1973, as amended (16 U.S.C. 1531 et seq.), and the Regulations Governing the Taking, Importing, and Exporting of Endangered Fish and Wildlife (50 CFR part 222). The amendment authorizes the extension of the study to specified Alaskan waters with no increase in takes.

Issuance of this amendment, as required by the ESA, was based on a finding that such permit: (1) was applied for in good faith; (2) will not operate to the disadvantage of the endangered species which is the subject of this permit; and (3) is consistent with the purposes and policies set forth in section 2 of the ESA.

Dated: July 11, 2000.
Jeannie Drevenak,
Acting Chief, Permits and Documentation Division, Office of Protected Resources, National Marine Fisheries Service.

[FR Doc. 00-18018 Filed 7-14-00; 8:45 am]

BILLING CODE 3510-22-F